DEPARTMENT OF TRANSPORTATION

Federal Highway Administration

Notice of Final Federal Agency Actions on Proposed Highway Projects in Texas

AGENCY: Texas Department of Transportation (TxDOT), Federal Highway Administration (FHWA), U.S. Department of Transportation.

ACTION: Notice of limitation on claims for judicial review of actions by TxDOT and Federal agencies.

SUMMARY: This notice announces actions taken by TxDOT and Federal agencies that are final. The environmental review, consultation, and other actions required by applicable Federal environmental laws for these projects are being, or have been, carried out by TxDOT pursuant to an assignment agreement executed by FHWA and TxDOT. The actions relate to various proposed highway projects in the State of Texas. These actions grant licenses, permits, and approvals for the projects.

DATES: By this notice, TxDOT is advising the public of final agency actions subject to 23 U.S.C. 139(l)(1). A claim seeking judicial review of TxDOT and Federal agency actions on the highway projects will be barred unless the claim is filed on or before the deadline. For the projects listed below, the deadline is January 22, 2024. If the Federal law that authorizes judicial review of a claim provides a time period of less than 150 days for filing such a claim, then that shorter time period still applies.

FOR FURTHER INFORMATION CONTACT: Patrick Lee, Environmental Affairs Division, Texas Department of Transportation, 125 East 11th Street, Austin, Texas 78701; telephone: (512) 416-2358; email: Patrick.Lee@txdot.gov. TxDOT's normal business hours are 8:00 a.m.-5:00 p.m. (central time), Monday through Friday.

SUPPLEMENTARY INFORMATION: The environmental review, consultation, and other actions required by applicable Federal environmental laws for these projects are being, or have been, carried out by TxDOT pursuant to 23 U.S.C. 327 and a Memorandum of Understanding dated December 9, 2019, and executed by FHWA and TxDOT.

Notice is hereby given that TxDOT and Federal agencies have taken final agency actions by issuing licenses, permits, and approvals for the highway projects in the State of Texas that are listed below.

The actions by TxDOT and Federal agencies and the laws under which such actions were taken are described in the Categorical Exclusion (CE), Environmental Assessment (EA), or Environmental Impact Statement (EIS) issued in connection with the projects and in other key project documents. The CE, EA, or EIS and other key documents for the listed projects are available by contacting the local TxDOT office at the address or telephone number provided for each project below.

This notice applies to all TxDOT and Federal agency decisions as of the issuance date of this notice and all laws under which such actions were taken, including but not limited to:

1. General: National Environmental Policy Act (NEPA) [42 U.S.C. 4321-4351]; Federal-Aid Highway Act [23 U.S.C. 109].

2. Air: Clean Air Act [42 U.S.C. 7401-7671(q)].

3. Land: Section 4(f) of the Department of Transportation Act of 1966 [49 U.S.C. 303]; Landscaping and Scenic Enhancement (Wildflowers) [23 U.S.C. 319].

4. Wildlife: Endangered Species Act [16 U.S.C. 1531-1544 and section 1536], Marine Mammal Protection Act [16 U.S.C. 1361], Fish and Wildlife Coordination Act [16 U.S.C. 661-667(d)], Migratory Bird Treaty Act [16 U.S.C. 703-712].

5. Historic and Cultural Resources: Section 106 of the National Historic Preservation Act of 1966, as amended [54 U.S.C. 300101 et seq.]; Archeological Resources Protection Act of 1977 [16 U.S.C. 470(aa)-11]; Archeological and Historic Preservation Act [54 U.S.C. 312501 et seq.]; Native American Grave Protection and Repatriation Act (NAGPRA) [25 U.S.C. 3001-3013].

6. Social and Economic: Civil Rights Act of 1964 [42 U.S.C. 2000(d)-2000(d)(1)]; American Indian Religious Freedom Act [42 U.S.C. 1996]; Farmland Protection Policy Act (FPPA) [7 U.S.C. 4201-4209].

7. Wetlands and Water Resources: Clean Water Act [33 U.S.C. 1251-1377] (section 404, section 401, section 319); Land and Water Conservation Fund (LWCF) [16 U.S.C. 4601-4604]; Safe Drinking Water Act (SDWA) [42 U.S.C. 300(f)-300(j)(6)]; Rivers and Harbors Act of 1899 [33 U.S.C. 401-406]; Wild and Scenic Rivers Act [16 U.S.C. 1271-1287]; Emergency Wetlands Resources Act [16 U.S.C. 3921, 3931]; TEA-21 Wetlands Mitigation [23 U.S.C. 103(b)(6)(m), 133(b)(11)]; Flood Disaster Protection Act [42 U.S.C. 4001-4128].

8. Executive Orders: E.O. 11990 Protection of Wetlands; E.O. 11988 Floodplain Management; E.O. 12898 Federal Actions to Address Environmental Justice in Minority Populations and Low-Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species. (Catalog of Federal Domestic Assistance Program Number 20.205, Highway Planning and Construction.)

The projects subject to this notice are:

1. Loop 1604 from Macdona Lacoste Rd to US 90, Bexar County, Texas. The project will construct a four-lane general purpose divided highway consisting of two 12-foot-wide travel lanes in each direction with a ten-foot outside shoulder and a four-foot inside shoulder from the Medina River to US 90. The existing Medina River bridge will remain in place and be converted to northbound-only travel lanes. A second parallel bridge will be constructed to the west for southbound lanes and will be approximately 690 feet long. South of the Medina River, Loop 1604 will transition back to the existing two-lane undivided highway approximately 200 feet north of Macdona Lacoste Road. The project is approximately 3.8 miles in length. The actions by TxDOT and Federal agencies and the laws under which such actions were taken are described in the Categorical Exclusion Determination issued on March 1, 2023, and other documents in the TxDOT project file. The Categorical Exclusion Determination and other documents in the TxDOT project file are available by contacting the TxDOT San Antonio District Office at 4615 NW Loop 410, San Antonio, TX 78229; telephone: (210) 615-5839.

2. SH 35 (Spur 5) from I-45 to I-610 in Harris County, Texas. The project will extend existing Spur 5 and construct a roadway on new location south of existing Spur 5 as SH 35. SH 35 will consist of a four- to ten-lane roadway between I-45 and Dixie Drive with an interchange at I-610. The number of main lanes will transition from four main lanes (between Dixie Drive and Glencoe Avenue) to six main lanes (between Glencoe Avenue and Griggs Road) to ten main lanes (between Griggs Road and Old Spanish Trail) and back to eight main lanes (between Old Spanish Trail and I-45). The SH 35/I-610 interchange would consist of an elevated, multi-level interchange between SH 35 and I-610. SH 35 would be elevated over I-610. The project is approximately 3.4 miles in length. The actions by TxDOT and Federal agencies and the laws under which such actions were taken are described in the Categorical Exclusion Determination issued on March 7, 2023, and other documents in the TxDOT project file. The Categorical Exclusion Determination and other documents in the TxDOT project file are available by contacting the TxDOT Houston District Office at 7600 Washington Ave., Houston, TX 77007; telephone: (713) 802-5000.

3. US 90 from I-10 to FM 1463 in Waller, Fort Bend, and Harris Counties, Texas. US 90 will be widened to a four-lane roadway with a raised median. Improvements from I-10 to Donigan Road will include only pavement upgrades and striping. Within the City of Brookshire from Koomey Road to Kenney Street, travel lanes will be separated by a 14-foot-wide center left-turn lane. Accommodation for bicycles and pedestrians will be provided. The project is approximately 10 miles in length. The actions by TxDOT and Federal agencies and the laws under which such actions were taken are described in the Categorical Exclusion Determination issued on March 16, 2023, and other documents in the TxDOT project file. The Categorical Exclusion Determination and other documents in the TxDOT project file are available by contacting the TxDOT Houston District Office at 7600 Washington Ave., Houston, TX 77007 or 713-802-5000. The Categorical Exclusion Determination and other documents in the TxDOT project file are available by contacting the TxDOT Houston District Office at 7600 Washington Ave., Houston, TX 77007; telephone: (713) 802-5000.

4. FM 407 from Cleveland Gibbs Road to Gateway Drive in Denton County, Texas. The project will include the widening of FM 2931 to a six-lane urban roadway section with a raised median and left-turn lanes in various locations within the project limits. The project includes widening of FM 407 and reconstructing to an urban six-lane section with turn lanes. The project is approximately 1.4 miles in length. The actions by TxDOT and Federal agencies and the laws under which such actions were taken are described in the Categorical Exclusion Determination issued on March 20, 2023, and other documents in the TxDOT project file. The Categorical Exclusion Determination and other documents in the TxDOT project file are available by contacting the TxDOT Dallas District Office at 4777 E Highway 80, Mesquite, TX 75150; telephone: (214) 320-4480.

5. Temple Outer Loop from 522 feet south of Jupiter Drive to north of Riverside Trail along Old Waco Road in Bell County, Texas. The project will be approximately 1.25 miles long and will widen the existing two-lane undivided roadway to a four-lane divided roadway with a raised boulevard grassy median section. The project will include curbs, gutters, a hike and bike trail, and dedicated bike lanes. The project will increase capacity by the construction of two additional travel lanes, one in each direction. The actions by TxDOT and Federal agencies and the laws under which such actions were taken are described in the Categorical Exclusion Determination issued on March 21, 2023, and other documents in the TxDOT project file. The Categorical Exclusion Determination and other documents in the TxDOT project file are available by contacting the TxDOT Waco District Office at 100 S Loop Drive, Waco, TX 76704; telephone: (254) 867-2700.

6. FM 741 from US 175 to FM 548 in Kaufman County, Texas. The project includes reconstructing and widening FM 741 to include an additional 12-foot travel lane in each direction as well as a raised median, totaling four lanes. The project is approximately 8.32 miles in length. The actions by TxDOT and Federal agencies and the laws under which such actions were taken are described in the Categorical Exclusion Determination issued on March 28, 2023, and other documents in the TxDOT project file. The Categorical Exclusion Determination and other documents in the TxDOT project file are available by contacting the TxDOT Dallas District Office at 4777 E Highway 80, Mesquite, TX 75150; telephone: (214) 320-4480.

7. IH 20 from FM 1187/FM 3325 to Markum Ranch Road, and IH 30 from IH 20 to Linkcrest Drive, in Parker and Tarrant Counties, Texas. The project will include three new interchanges on IH 20 and one new interchange on IH 30. Portions of the existing frontage roads along IH 20 and IH 30 would be reconstructed and shared-use paths for bicycle and pedestrian accommodations will be provided. The project will also include operational improvements to existing cross streets, main lanes, ramps, and auxiliary lanes. The length of the project along IH 20 is approximately 5.6 miles and the length of the project along IH 30 is approximately 2.4 miles. The actions by TxDOT and Federal agencies and the laws under which such actions were taken are described in the Categorical Exclusion Determination issued on April 4, 2023, and other documents in the TxDOT project file. The Categorical Exclusion Determination and other documents in the TxDOT project file are available by contacting the TxDOT Fort Worth District Office at 2501 SW Loop 820, Fort Worth, TX 76133; telephone: (817) 370-6744.

8. US 82 West from 0.1 mile west of FM 3403 to 0.1 mile west of US 259 in Bowie and Red River Counties, Texas. The project will widen a 6.9-mile section of US 82 from a two-lane roadway to a four-lane divided roadway with a paved median. The actions by TxDOT and Federal agencies and the laws under which such actions were taken are described in the Categorical Exclusion Determination issued on April 26, 2023, and other documents in the TxDOT project file. The Categorical Exclusion Determination and other documents in the TxDOT project file are available by contacting the TxDOT Atlanta District Office at 701 E Main Street, Atlanta, TX 75551; telephone: (903) 799-1306.

9. Meandering Road from SH 183 to Anahuac Avenue, and LTjg Barnett Road from Meandering Road to the Naval Air Station Reserve Base east gate, in Tarrant County, Texas. The Cities of Fort Worth and River Oaks are proposing improvements along Meandering Road and LTjg Barnett Road. Road reconstruction on Meandering Road between Roberts Cut Off Road and LTjg Barnett Road will result in a reduction from four lanes to three lanes, and the addition of a shared-use path on the north side of the roadway, and a sidewalk on the south side. On LTjg Barnett Road from Meandering Road to the east side of the West Fork Trinity River, the project will involve reconstructing the two 12-foot-wide lanes to 11-foot-wide lanes and adding a bike lane in each direction (on-road), a sidewalk on the north side of the roadway, and a shared-use path on the south side. From the east side of the West Fork Trinity River to the East Gate of the NASJRB, only pavement restriping would occur (i.e., no construction). A new traffic signal would be installed at the intersection of Meandering Road and Roberts Cut Off Road, and Meandering Road would be realigned at and intersect Roberts Cut Off Road at a 90-degree angle, effectively shifting the intersection approximately 150 feet to the north. Approximately 800 feet of Roberts Cut Off Road south of Meandering Road would be reconstructed and a sidewalk would be added to the west side. A roundabout is proposed at Meandering Road's intersection with LTjg Barnett Road/Brocks Lane. A shared-use path would accommodate both bicycles and pedestrians at this roundabout. The existing connection of Brocks Lane to the Meandering Road/LTjg Barnett Road intersection would be moved approximately 130 feet to the west and connect directly to Meandering Road. A new driveway would also be constructed, extending from this new segment southward to access the parking lot at the west corner of the LTjg Barnett Road/Brocks Lane intersection. The existing Brocks Lane pavement past (east of) this new connection would be removed and revegetated as part of the project. Drainage would remain curb-and-gutter throughout the length of the project. The actions by TxDOT and Federal agencies and the laws under which such actions were taken are described in the Categorical Exclusion Determination issued on May 4, 2023, and other documents in the TxDOT project file. The Categorical Exclusion Determination and other documents in the TxDOT project file are available by contacting the TxDOT Fort Worth District Office at 2501 SW Loop 820, Fort Worth, TX 76133; telephone: (817) 370-6744.

10. Construction of Border Inspection Facilities on the South Orient Railroad from the Texas/Mexico Border to CR 31 in Presidio County, Texas. The project will construct border inspection facilities to include scanning equipment, office buildings, parking lots, rail car covered area, access roadways, and applicable utilities. The actions by TxDOT and Federal agencies and the laws under which such actions were taken are described in the Categorical Exclusion Determination issued on May 11, 2023, and other documents in the TxDOT project file. The Categorical Exclusion Determination and other documents in the TxDOT project file are available by contacting the TxDOT El Paso District Office at 13301 Gateway West, El Paso, TX; telephone: (915) 790-4341.

11. SH 30 from William D. Fitch Parkway to CR 175 in Brazos and Grimes Counties, Texas. The project will widen SH 30 from a two-lane undivided roadway to a four-lane roadway with a continuous center turn lane from approximately 1,500 feet northwest of William D. Fitch Parkway in Brazos County to approximately 1,500 feet east of CR 175 in Grimes County. Project length is approximately 2.75 miles. The project will reconstruct SH 30 to four 12-foot wide travel lanes (two in each direction) with a 15-foot wide median/two-way left-turn lane and 10-foot wide outside shoulders. The three bridge structures within the project limits would be replaced to accommodate the improvements. The actions by TxDOT and Federal agencies and the laws under which such actions were taken are described in the Categorical Exclusion Determination issued on May 24, 2023, and other documents in the TxDOT project file. The Categorical Exclusion Determination and other documents in the TxDOT project file are available by contacting the TxDOT Bryan District Office at 2591 North Earl Rudder Freeway, Bryan, TX 77803; telephone: (979) 778-2165.

12. Lampasas US 183 Widening Project from 0.46 mile east of Lometa to US 281 in Lampasas County, Texas. The project will provide additional pavement width where necessary for a total of four travel lanes, two in each direction, add a flush center median for left-hand turning movements; improve shoulders; add guardrails; improve drainage by upgrading culverts; and reduce the slope (steepness) of ditches. The total length of project is approximately 15 miles. The actions by TxDOT and Federal agencies and the laws under which such actions were taken are described in the Categorical Exclusion Determination issued on May 24, 2023, and other documents in the TxDOT project file. The Categorical Exclusion Determination and other documents in the TxDOT project file are available by contacting the TxDOT Brownwood District Office at 2495 Highway 183 North, Brownwood, TX 76802; telephone: (325) 646-2591.

13. US Highway 79 Widening Project from approximately 0.3 mile west of IH 45 to approximately 0.5 mile west of FM 1512 in Leon County, Texas. The majority of the project will provide two 12-foot travel lanes in each direction separated by a 76-foot grass median. The travel lanes will be bounded by four-foot inside and ten-foot outside shoulders. There will be grade separations at railroads and at the Nucor entrance. Entrance and exit ramps will provide access to Nucor. The FM 39 bridge over US 79 will be replaced and the existing entrance and exit ramps will be removed and replaced with a single connection just northeast of the FM 39 crossing. In Jewett, the project will provide two 12-foot travel lanes in each direction separated by a 16-foot two-way center turn lane. The total length of the project is approximately 10.3 miles. The actions by TxDOT and Federal agencies and the laws under which such actions were taken are described in the Final Environmental Assessment (EA), the Finding of No Significant Impact (FONSI) issued on March 1, 2023, and other documents in the TxDOT project file. The EA, FONSI and other documents in the TxDOT project file are available by contacting the TxDOT Bryan District Office at 2591 North Earl Rudder Freeway, Bryan, TX 77803; telephone: (979) 778-2165.

Authority: 23 U.S.C. 139(l)(1).

Michael T. Leary,
Director, Planning and Program Development, Federal Highway Administration.

[FR Doc. 2023-18173 Filed 8-22-23; 8:45 am]

BILLING CODE 4910-22-P